ENVIRONMENTAL PROTECTION AGENCY

[FRL-9189-7]

Clean Water Act Section 303(d): Availability of List Decisions

AGENCY: Environmental Protection Agency (EPA).

ACTION: Notice and request for comments.

SUMMARY: This notice announces the availability of EPA's decision identifying 12 water quality limited waterbodies and associated pollutants in South Dakota to be listed pursuant to the Clean Water Act Section 303(d)(2), and requests public comment. Section 303(d)(2) requires that States submit and EPA approve or disapprove lists of waters for which existing technology-based pollution controls are not stringent enough to attain or maintain State water quality standards and for which total maximum daily loads (TMDLs) must be prepared.

On July 9, 2010, EPA partially approved and partially disapproved South Dakota's Section 303(d) list submittal for the 2010 listing cycle. Specifically, EPA approved South Dakota's listing of 151 waters, associated pollutants, and associated priority rankings. EPA disapproved South Dakota's decision to not include 12 lakes that had been on the 2008 list. EPA evaluated all the existing and readily available data and information on the lakes and concluded that the beneficial uses for these lakes are not being fully met. Based on this evaluation EPA has determined that the following 12 lakes are not fully attaining the water quality standards established by the State of South Dakota and should be included on the State's list of impaired waters: Waggoner Lake (Haakon County), Bierman Dam (Spink County), Lake Carthage (Miner County), Lake Isabel (Dewey County), Twin Lakes (Sanborn County), Wilmarth Lake (Aurora County), Rahn Lake (Tripp County), Cottonwood Lake (Sully County), East Vermillion Lake (McCook County), Bullhead Lake (Deuel County), Lake Campbell (Campbell County), and Lake Pocasse (Campbell County).

EPA is providing the public the opportunity to review its decision to add these lakes to South Dakota's 2010 Section 303(d) list, as required by EPA's Public Participation regulations. EPA will consider public comments in reaching its final decision to add these lakes to the State's list.

DATES: Comments must be submitted to EPA on or before September 27, 2010.

ADDRESSES: Comments on the proposed decision should be sent to Tom Johnson, Water Quality Unit (8EPR-EP), U.S. Environmental Protection Agency Region 8, 1595 Wynkoop Street, Denver, CO 80202-1129, telephone (303) 312-6226, facsimile (303) 312-7206, e-mail johnson.tom@epa.gov. Oral comments will not be considered. Copies of EPA's letter concerning South Dakota's list that explains the rationale for EPA's decision can be obtained at EPA Region 8's Web site at http://www.epa.gov/region08/water/tmdl, or by writing or calling Mr. Johnson at the above address. Underlying documents from the administrative record for these decisions are available for public inspection at the above address. Please contact Mr. Johnson to schedule an inspection.

FOR FURTHER INFORMATION CONTACT: Tom Johnson at (303) 312-6226 or johnson.tom@epa.gov.

SUPPLEMENTARY INFORMATION: Section 303(d) of the Clean Water Act (CWA) requires that each State identify those waters for which existing technology-based pollution controls are not stringent enough to attain or maintain State water quality standards. For those waters, States are required to establish TMDLs according to a priority ranking.

EPA's Water Quality Planning and Management regulations include requirements related to the implementation of Section 303(d) of the CWA (40 CFR 130.7). The regulations require States to identify water-quality-limited waters still requiring TMDLs every two years. The lists of waters still needing TMDLs must also include priority rankings, identify the pollutants causing the impairment, and must identify the waters targeted for TMDL development during the next two years (40 CFR 130.7).

Consistent with EPA's regulations, South Dakota submitted to EPA its listing decisions under Section 303(d)(2) in correspondence dated March 29, 2010. On July 9, 2010, EPA approved South Dakota's listing of 151 waters and associated priority rankings. EPA disapproved South Dakota's decision not to include 12 lakes in its list. EPA solicits public comment on the addition of these 12 lakes to the State's list, as required by EPA's Public Participation regulations (40 CFR Part 25).

Authority: Clean Water Act, 33 U.S.C. 1251 et seq.

Dated: August 4, 2010.
Martin Hestmark,
Acting Assistant Regional Administrator, Office of Ecosystems Protection and Remediation.

[FR Doc. 2010-21390 Filed 8-26-10; 8:45 am]

BILLING CODE 6560-50-P